DEPARTMENT OF HEALTH AND HUMAN SERVICES

Centers for Disease Control and Prevention

National Task Force on Fetal Alcohol Syndrome and Fetal Alcohol Effect

In accordance with section 10(a)(2) of the Federal Advisory Committee Act (Pub. L. 92-463), the Centers for Disease Control and Prevention (CDC) announces the following Federal advisory committee meeting.

NAME: National Task Force on Fetal Alcohol Syndrome and Fetal Alcohol Effect (NTFFASFAE).

TIMES AND DATES: 9 a.m.-4:30 p.m., December 6, 2004; 9 a.m.-12 noon, December 7, 2004.

PLACE: Westin Buckhead Atlanta Hotel, 3391 Peachtree Road, NE., 30326, telephone (404) 365-0065, fax (404) 365-8787.

STATUS: Open to the public, limited only by the space available. The meeting room accommodates approximately 65 people.

PURPOSE: The Secretary is authorized by the Public Health Service Act, Section 399G, (42 U.S.C. S 280f, as added by Public Law 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and(2) to otherwise meet the general needs of populations actually or potentially impacted by FAS and FAE.

MATTERS TO BE DISCUSSED: Agenda items include: An overview of effective strategies to reduce the risk of problem drinking and alcohol-exposed pregnancies; what is needed to implement effective programs in the service delivery system; alcohol advertising and adolescent girls; and a discussion of issues presented. Additional agenda items include: Prevention and Post-Exposure working group sessions; updates from Task Force members on current initiatives; an update on activities from the Interagency Coordinating Committee on Fetal Alcohol Syndrome, the CDC and other Federal agencies; future topics, and scheduling the next meeting.

Agenda items are subject to change as priorities dictate.

FOR FURTHER INFORMATION CONTACT: R. Louise Floyd,DSN, RN, Designated Federal Official, National Center on Birth Defects and Developmental Disabilities, CDC, 1600 Clifton Road, NE., (E-86), Atlanta, Georgia 30333, telephone (404) 498-3923, fax (404) 498-3550.

The Director, Management Analysis and Services Office, has been delegated the authority to sign Federal Register notices pertaining to announcements of meetings and other committee management activities for both the CDC and ATSDR.

Dated: October 27, 2004.
B. Kathy Skipper,
Acting Director, Management Analysis and Services Office, Centers for Disease Control and Prevention.

[FR Doc. 04-24391 Filed 11-1-04; 8:45 am]

BILLING CODE 4163-18-P